NUCLEAR REGULATORY COMMISSION

[Docket No. 40-9091-MLA; ASLBP No. 12-915-01-MLA-BD01]

Strata Energy, Inc. (Ross In Situ Recovery Uranium Project); Notice of Atomic Safety and Licensing Board Reconstitution

Pursuant to 10 CFR 2.313(c) and 2.321(b), the Atomic Safety and Licensing Board (Board) in the above-captioned Strata Energy, Inc. case is hereby reconstituted by appointing Administrative Judge Craig M. White to serve on the Board in place of Administrative Judge Kenneth L. Mossman.

All correspondence, documents, and other materials shall continue to be filed in accordance with the NRC E-Filing rule. See 10 CFR 2.302 et seq.

Issued at Rockville, Maryland this 10th day of September 2013.
E. Roy Hawkens,
Chief Administrative Judge, Atomic Safety and Licensing Board Panel.

[FR Doc. 2013-22466 Filed 9-13-13; 8:45 am]

BILLING CODE 7590-01-P